DEPARTMENT OF THE INTERIOR

Bureau of Land Management

[LLNMA02000.L51010000.ER0000.17X LVRWG17G1360; NMNM 136976]

Notice of Availability for the Draft Environmental Impact Statement and Land Use Plan Amendment for Borderlands Wind Project in Catron County, New Mexico

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Draft Environmental Impact Statement (EIS) for the proposed Borderlands Wind Project (Project) and Proposed Socorro Field Office Resource Management Plan Amendment (RMPA) for the BLM Socorro Field Office, and by this notice is announcing its availability.

DATES: This notice initiates a 90-day public review period of the Draft EIS and RMPA. Comments on the document may be submitted in writing until November 7, 2019. To provide an opportunity to review the Draft EIS and RMPA, the BLM expects to hold one public meeting during the comment period. The BLM will announce the exact date, time, and location for the meetings at least 15 days prior to the event. Announcements will be made by news release to the media and posting on BLM's website listed below.

In order to be included in the Draft EIS and RMPA, comments must be received prior to the close of the 90-day public comment period. The BLM will provide additional opportunities for public participation upon publication of the Final EIS and RMPA.

ADDRESSES: You may submit comments or resource information related to the project by either of the following methods:

• Electronically: https://www.blm.gov/programs/planning-and-nepa/plans-in-development/new-mexico/proposed-borderlands-wind-project.

• By mail: Jim Stobaugh, National Project Manager, Bureau of Land Management Nevada State Office, Borderlands Wind Project, 1340 Financial Blvd., Reno, NV 89502.

FOR FURTHER INFORMATION CONTACT: For further information and/or to have your name added to our mailing list, contact Virginia Alguire, BLM Socorro Field Office, 901 South Highway 85, Socorro, New Mexico 87801; phone 575-838-1290; or email valguire@blm.gov. Any persons wishing to be added to a mailing list of interested parties can call or write to the BLM. Persons who use a telecommunications device for the deaf (TDD) may call the Federal Relay Service (FRS) at 1-800-877-8339 to contact Ms. Alguire during normal business hours. The FRS is available 24 hours a day, 7 days a week, to leave a message or question with the above individual. You will receive a reply during normal business hours.

SUPPLEMENTARY INFORMATION: Borderlands Wind, LLC submitted an application to the BLM requesting authorization to construct, operate, maintain, and terminate an up-to 100 megawatt commercial wind energy generation facility —Borderlands Wind Project (NMNM136976), in Catron County, New Mexico, within a boundary that encompasses land managed by the BLM, the New Mexico State Land Office (SLO), and private landowners. The project would be located south of U.S. Route 60 in Catron County near Quemado, New Mexico, and the Arizona-New Mexico border. Authorization of this proposal requires an amendment to the 2010 Socorro Field Office RMP to modify the visual resource management class in the project area and to modify a right-of-way avoidance area.

The Draft EIS addresses the direct, indirect, and cumulative environmental impacts of the Proposed Action, Alternative 1 (optimize the proposed wind facility components in order to minimize potential environmental impacts), Alternative 2 (change in the turbine generation types), and the No Action Alternative. Alternatives 1 and 2 would be constructed, operated, and maintained within the same project area. The Proposed Action and Alternative 1 would construct 40 turbines. However, because of the difference in type of turbine, Alternative 2 would only construct 34 turbines. The No Action Alternative would be a continuation of existing conditions.

A Notice of Intent to prepare an EIS for the proposed Borderlands Wind Project was published in the Federal Register on November 9, 2018 (83 FR 56097). The public scoping period closed on December 10, 2018. The BLM held one public scoping meeting on November 14, 2018. The BLM received 51 public scoping comment submissions during the 45-day scoping period. The scoping comments focused on wildlife, visual and cultural resources, light pollution, human health, local economic benefits, and property values.

The BLM continues to consult with Indian tribes on a government-to-government basis in accordance with Executive Order 13175 and other policies. Tribal concerns, including potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

Timothy R. Spisak,
BLM New Mexico State Director.

[FR Doc. 2019-16912 Filed 8-8-19; 8:45 am]

BILLING CODE 4310-FB-P